CORPORATION FOR NATIONAL AND COMMUNITY SERVICE

Information Collection; Submission for OMB Review, Comment Request

AGENCY: Corporation for National and Community Service.

ACTION: Notice.

SUMMARY: The Corporation for National and Community Service (CNCS) has submitted a public information collection request (ICR) entitled AmeriCorps Community Engagement Survey for review and approval in accordance with the Paperwork Reduction Act of 1995, Public Law 104-13, (44 U.S.C. Chapter 35). Copies of this ICR, with applicable supporting documentation, may be obtained by calling the Corporation for National and Community Service, Anthony Nerino, at (202) 606-3913 or email to anerino@cns.gov. Individuals who use a telecommunications device for the deaf (TTY-TDD) may call 1-800-833-3722 between 8:00 a.m. and 8:00 p.m. Eastern Time, Monday through Friday.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: (202) 395-6974, Attention: Ms. Sharon Mar, OMB Desk Officer for the Corporation for National and Community Service; or

(2) By email to: smar@omb.eop.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on March 4, 2014. This comment period ended May 5, 2014. No public comments were received from this Notice. Upon consultation with stakeholders regarding the focus of this research, the title of the study was changed to “The Corporation for National and Community Service AmeriCorps Community Engagement Survey”.

Description: CNCS is seeking approval of the survey to be used in The Corporation for National and Community Service AmeriCorps Community Engagement Survey, which is used by CNCS to collect information on service activities and scope from AmeriCorps grantees in order to evaluate the program's level of engagement and impact on the communities they serve.

Type of Review: New.

Agency: Corporation for National and Community Service.

Title: The AmeriCorps Community Engagement Survey.

OMB Number: TBD.

Agency Number: None.

Affected Public: Primary AmeriCorps Grantees, AmeriCorps Grantee Operating Sites, Local Community Partner.

Total Respondents: 200 primary AmeriCorps grantees; 380 administrators of AmeriCorps operating sites; 1140 local community partners.

Frequency: One Time.

Average Time per Response: 30-35 minutes.

Estimated Total Burden Hours
Grantee Survey | 200 Respondents at 15 minutes = 50 hours.
Grantee Operating Site Survey | 380 Respondents at 30 minutes = 190 hours.
Partner Survey | 1140 Respondents at 20 minutes = 342 hours.
Total | 1720 Respondents = 582 hours.
Total Burden Cost (capital/startup) | None.
Total Burden Cost (operating/maintenance) | None.

Dated: June 25, 2014.
Mary Hyde,
Deputy Director, Research and Evaluation.

[FR Doc. 2014-15400 Filed 6-30-14; 8:45 am]

BILLING CODE 6050-28-P